DEPARTMENT OF COMMERCE

National Oceanic and Atmospheric Administration

RIN 0648-XK54

Marine Mammals; File No. 13602

AGENCY: National Marine Fisheries Service (NMFS), National Oceanic and Atmospheric Administration (NOAA), Commerce.

ACTION: Notice; receipt of application.

SUMMARY: Notice is hereby given that Dr. Terrie Williams, Long Marine Lab, Institute of Marine Sciences, University of California at Santa Cruz, 100 Shaffer Road, Santa Cruz, CA 95060, has applied in due form for a permit to conduct research on captive marine mammals.

DATES: Written, telefaxed, or e-mail comments must be received on or before November 7, 2008.

ADDRESSES: The application and related documents are available for review upon written request or by appointment in the following offices:

Permits, Conservation and Education Division, Office of Protected Resources, NMFS, 1315 East-West Highway, Room 13705, Silver Spring, MD 20910; phone (301)713-2289; fax (301)427-2521; and

Southwest Region, NMFS, 501 West Ocean Blvd., Suite 4200, Long Beach, CA 90802-4213; phone (562)980-4001; fax (562)980-4018.

Written comments or requests for a public hearing on this application should be mailed to the Chief, Permits, Conservation and Education Division, F/PR1, Office of Protected Resources, NMFS, 1315 East-West Highway, Room 13705, Silver Spring, MD 20910. Those individuals requesting a hearing should set forth the specific reasons why a hearing on this particular request would be appropriate.

Comments may also be submitted by facsimile at (301)427-2521, provided the facsimile is confirmed by hard copy submitted by mail and postmarked no later than the closing date of the comment period.

Comments may also be submitted by e-mail. The mailbox address for providing e-mail comments is NMFS.Pr1Comments@noaa.gov. Include in the subject line of the e-mail comment the following document identifier: File No. 13602.

FOR FURTHER INFORMATION CONTACT: Jennifer Skidmore or Amy Sloan, (301)713-2289.

SUPPLEMENTARY INFORMATION: The subject permit is requested under the authority of the Marine Mammal Protection Act of 1972, as amended (MMPA; 16 U.S.C. 1361 et seq.), the regulations governing the taking and importing of marine mammals (50 CFR part 216), the Endangered Species Act of 1973, as amended (ESA; 16 U.S.C. 1531 et seq.), the regulations governing the taking, importing, and exporting of endangered and threatened species (50 CFR 222-226), and the Fur Seal Act of 1966, as amended (16 U.S.C. 1151 et seq.).

The applicant is requesting a permit to continue permitted activities authorized under Permit No. 984-1587. This research compares the energetic responses and diving physiology of odontocetes and pinnipeds to determine key physiological factors required for survival. Two adult bottlenose dolphins (Tursiops truncatus) currently maintained at Long Marine Lab will be used as model species due to availability, trainability, and a foundation of data from previous studies. Additional odontocetes and other marine mammal species (up to 122 animals representing 7 species over 5 years) would be added through cooperative agreements with accredited zoological institutions. Other species and subjects from rehabilitation and stranding programs may be added opportunistically. This research on captive animals will provide data for understanding the impact of changing environmental demands on wild marine mammals. Two approaches are used, (1) basic physiological evaluation (caloric intake, metabolism, heart rate, stroke rate, aerobic dive capacity, thermal capacity) measured seasonally on mature and immature dolphins, and (2) comparative evaluation of identical parameters for other species representing different evolutionary lineages. The results will be used to develop energetics models for large and small cetaceans as well as other marine mammals to assist in management decisions for wild populations. A permit is requested for five years.

Concurrent with the publication of this notice in the Federal Register, NMFS is forwarding copies of this application to the Marine Mammal Commission and its Committee of Scientific Advisors.

Dated: October 3, 2008.
P. Michael Payne,
Chief, Permits, Conservation and Education Division, Office of Protected Resources, National Marine Fisheries Service.

[FR Doc. E8-23872 Filed 10-7-08; 8:45 am]

BILLING CODE 3510-22-S